DEPARTMENT OF HEALTH AND HUMAN SERVICES

Centers for Disease Control and Prevention

[Program Announcement 01111]

Global Malaria Prevention and Control Notice of Availability of Funds

A. Purpose

The Centers for Disease Control and Prevention (CDC) announces the availability of fiscal year (FY) 2001 funds for a cooperative agreement program for Global Malaria Prevention and Control. This program addresses the “Healthy People 2010” focus areas of Immunization and Infectious Diseases.

The purpose of the program is to expand the involvement of organizations in the global Roll Back Malaria (RBM) effort and to foster endemic-country action in malaria prevention and control program implementation and the relevant ancillary activities (e.g., baseline evaluation, strategy development, training, monitoring and evaluation, focused operations research to further the program implementation). See Attachment 2 for more background information.

B. Eligible Applicants

Assistance will be provided to public and private nonprofit organizations and their agents, including public and nonprofit faith-based organizations.

Note: Title 2 of the United States Code, Chapter 26, Section 1611 states that an organization described in section 501(c)(4) of the Internal Revenue Code of 1986 that engages in lobbying activities is not eligible to receive Federal funds constituting an award, grant, cooperative agreement, contract, loan, or any other form.

C. Availability of Funds

Approximately $500,000 is available in FY 2001 to fund approximately three awards. It is expected that the average award will be $125,000, ranging from $100,000 to $150,000. It is expected that the awards will begin on or about September 30, 2001, and will be made for a 12-month budget period within a project period of up to three years. Funding estimates may change.

Continuation awards within an approved project period will be made on the basis of satisfactory progress as evidenced by required reports and the availability of funds.

Funding Preference

Funding preference will be given to organizations proposing to work in sub-Saharan African countries with the greatest number of malaria deaths.

D. Program Requirements

In conducting activities to achieve the purpose of this program, the recipient will be responsible for the activities under 1. (Recipient Activities), and CDC will be responsible for the activities listed under 2. (CDC Activities).

1. Recipient Activities

The applicant and their partner(s) in the malaria-endemic country must:

a. Enhance local capacity for implementing methods that will reduce malaria transmission and the morbidity and mortality from malaria infection in the partner malaria-endemic country. Applicants, in collaboration with the partner country, should analyze the partner country's current infrastructure for RBM implementation (per Attachment 3) and develop strategies that will address the priority implementation needs. In countries where such an analysis has already been done, applicants should propose to carry out through collaboration with a partner organization in the partner country the priority malaria prevention activities identified through the infrastructure analysis.

Priority program areas are listed below and are examples of activities that would be appropriate to propose under this announcement. Some of these activities may have been addressed or are currently being addressed by the partner country's government or other partner organizations, in which case, the applicant should not duplicate existing efforts. Details and example activities for each are provided as attachments in the application kit.

1. Public health capacity building for government or institutions contributing to malaria prevention and control (Attachment 4)

2. Increase the public's access to effective antimalarial drugs and appropriate management of malaria illness to reduce malaria-associated mortality or the severity and duration of malaria illness. (Attachment 5)

3. Reduce exposure to malaria, particularly among young children and pregnant women, through the use of proven malaria control interventions. (Attachment 6)

4. Prevention of malaria and its adverse consequences during pregnancy. (Attachment 7)

5. Assess RBM program progress (Attachment 8)

6. Operations research (Attachment 9)

b. Attend and participate in an annual meeting of grantee representatives to present, discuss, and evaluate program activities.

c. If a proposed project involves research on human participants, ensure appropriate Independent Review Board (IRB) review.

2. CDC Activities

a. Provide consultation and assistance with training curricula and materials as necessary and appropriate for in-country training programs.

b. Provide consultation and assistance as needed to further the efforts of cooperative agreement recipients and their country partners in RBM planning and assessment.

c. Provide consultation and assistance on methods for treatment of malaria, enhancing local capacity to increase use of insecticide treated bed nets, or prevention of malaria and its adverse consequences during pregnancy.

d. Provide consultation and assistance on operations research study designs that may be carried out by one or more cooperative agreement recipients.

e. Assist in the development of a research protocol for IRB by all cooperating institutions participating in the research project. The CDC IRB will review and approve the protocol initially and on at least an annual basis until the research project is completed.

f. Participate in an annual meeting of grantee representatives to present, discuss, and evaluate program activities.

E. Content

Letter of Intent (LOI)

An LOI is requested for this program. The narrative should be no more than two single-spaced pages, printed on one side, with one inch margins, and unreduced font. Your letter of intent will be used to plan the independent review group. The letter should include the following information (1) name and address of the organization and the proposed partner country and organization(s); (2) name, address and, telephone number of a contact person; (3) a brief description of the past and anticipated collaboration between the applicant and partner organization(s) in the partner country.

Applications

Use the information in the Program Requirements, Other Requirements, and Evaluation Criteria sections to develop the application content. Your application will be evaluated on the criteria listed, so it is important to follow them in laying out your program plan.

Applicants must include evidence that they have notified the appropriate agency or Ministry of Health (MOH) in the government of the international or partner country. Applicant must receive concurrence from the appropriate agency or MOH in the government before an official award is made.

Applicants must show an established relationship with a partner organization(s) in the country they propose for their project. A letter with the partner's letterhead documenting the partner's agreement to collaborate on the respective activities must be included after the face page of the application. Without this letter(s), the application will be deemed non-responsive and returned.

F. Submission and Deadline

Letter of Intent (LOI)

On or before July 15, 2001 submit the LOI to the Grants Management Specialist identified in the “Where to Obtain Additional Information” section of this announcement.

Application

Submit the original and five copies of PHS-398 (OMB Number 0925-0001) (adhere to the instructions on the Errata Instruction Sheet for PHS 398). Forms are available in the application kit and at the following Internet address: www.cdc.gov/od/pgo/forminfo.htm.

On or before August 13, 2001, submit the application to the Grants Management Specialist identified in the “Where to Obtain Additional Information” section of this announcement.

Deadline: Applications shall be considered as meeting the deadline if they are either:

1. Received on or before the deadline date; or

2. Sent on or before the deadline date and received in time for submission to the independent review group. (Applicants must request a legibly dated U.S. Postal Service postmark or obtain a legibly dated receipt from a commercial carrier or U.S. Postal Service. Private metered postmarks shall not be acceptable as proof of timely mailing.)

Late: Applications which do not meet the criteria in 1. or

2. above will be returned to the applicant.

G. Evaluation Criteria

Each application will be evaluated individually against the following criteria by an independent review group appointed by CDC.

1. Background and Need (15 Points)

a. The extent to which the malaria situation in the partner malaria-endemic country is well established as an important cause of morbidity and mortality across the country;

b. The extent to which the existing malaria control program and its prevention and control strategies are clearly described;

c. The extent to which existing surveillance, monitoring and evaluation methods and capability are clearly described;

d. The extent to which gaps and priorities in malaria prevention and control implementation are clearly described.

2. Collaborative Arrangement(s) (25 Points)

a. The extent to which the description of past and current collaboration between the applicant and partner organization in the partner country reflects an effective working relationship that will support the proposed activities;

b. The extent to which the collaboration will include the organization responsible for policy and implementation of malaria prevention and control in the target area;

c. Formal letters of support are provided for this application from appropriate groups (Ministry of Health, University, etc.) within the malaria-endemic country to demonstrate the appropriate and necessary cooperation for malaria prevention and control program support.

d. The extent to which plans for representation at the annual meeting of awardees reflect the intent to actively collaborate with other awardees through this meeting.

3. Plan of Operation (45 Points)

a. The extent to which the application provides evidence that key personnel have the ability and program skills to develop and carry out the proposed activities;

b. The extent to which the applicant and malaria-endemic partners have demonstrated a collaborative review of the priority needs for malaria in the malaria-endemic country;

c. The extent to which the applicant clearly defines objectives and justifies these objectives in relation to the proposed focus of the plan to address priority issues for the malaria-endemic country RBM program;

d. The adequacy of the plan to carry out major project components (e.g., in both the applicant and malaria-endemic country: leadership, staffing, administrative coordination, planning, and measurement activities), including a timetable that provides major milestones for implementing activities;

e. The degree to which the plan is consistent with malaria prevention best practices and RBM principles;

f. If capacity building for public health in malaria is proposed, the extent to which the planned activities relate to capacity improvements that will benefit RBM activities in the partner country;

g. The degree to which the applicant has met the CDC Policy requirements regarding the inclusion of women, ethnic, and racial groups in the proposed research. This includes:

(1) The proposed plan for the inclusion of both sexes and racial and ethnic minority populations for appropriate representation.

(2) The proposed justification when representation is limited or absent.

(3) A statement as to whether the design of the study is adequate to measure differences when warranted.

(4) A statement as to whether the plans for recruitment and outreach for study participants include the process of establishing partnerships with community(ies) and recognition of mutual benefits.

4. Evaluation Plan (15 Points)

The extent to which (a) the applicant describes a detailed plan for monitoring the implementation of the activities and evaluating the extent to which the proposed activities strengthen local and national capacity for malaria prevention and control, and (b) the monitoring and evaluation plan builds on existing monitoring and evaluation systems in the project area and can demonstrate progress towards RBM objectives.

5. Budget (Not Scored)

The extent to which the budget is detailed, clear, justified, describes in-kind or other project support, and is consistent with the proposed program activities.

6. Human Subjects (Not Scored)

Does the application adequately address the requirements of Title 45 CFR Part 46 for the protection of human subjects? (Not scored; however, an application can be disapproved if the research risks are sufficiently serious and protection against risks is so inadequate as to make the entire application unacceptable.)

H. Other Requirements

Technical Reporting Requirements Provide CDC with original plus two copies of—

1. annual progress reports;

2. financial Status Report (FSR), no more than 90 days after the end of the budget period; and

3. final financial and performance reports, no more than 90 days after the end of the project period.

Send all reports to the Grants Management Specialist identified in the “Where to Obtain Additional Information” section of this announcement.

The following additional requirements are applicable to this program. For a complete description of each, see Attachment I of the announcement in the application kit.

AR-1 Hunman Subjects Requirements

AR-2 Requirements for Inclusion of Women and Racial and Ethnic Minorities in Research

AR-9 Paperwork Reduction Act Requirements

AR-10 Smoke-Free Workplace Requirements

AR-11 Healthy People 2010

AR-12 Lobbying Restrictions

AR-14 Accounting System Requirements

AR-15 Proof of Non-Profit Status

AR-22 Research Integrity

I. Authority and Catalog of Federal Domestic Assistance Number

This program is authorized under sections 301(a), 307, and 317(k)(2) of the Public Health Service Act, [42 U.S.C. sections 241(a), 2421, and 247b(k)(2)], as amended. The Catalog of Federal Domestic Assistance number is 93.283.

J. Where To Obtain Additional Information

This and other CDC announcements can be found on the CDC home page Internet address—http://www.cdc.gov Click on “Funding” then “Grants and Cooperative Agreements.”

To obtain business management technical assistance, contact: Merlin Williams, Grants Management Specialist, Grants Management Branch, Procurement and Grants Office, Centers for Disease Control and Prevention, 2920 Brandywine Road, Room 3000, Atlanta, GA 30341-4146, Telephone: 770-488-2765, Email address: mqw6@cdc.gov.

For program technical assistance, contact: Richard W. Steketee, MD, MPH or Craig Leutzinger, Division of Parasitic Diseases, National Center for Infectious Diseases, Centers for Disease Control and Prevention, 1600 Clifton Road, Atlanta, GA 30333, Telephone: 770-488-7760, Fax: 770-488-7761, Email address: ris1@cdc.gov or cll1@cdc.gov.

Dated: June 22, 2001.
John L. Williams,
Director, Procurement and Grants Office, Centers for Disease Control and Prevention (CDC).

[FR Doc. 01-16248 Filed 6-27-01; 8:45 am]

BILLING CODE 4163-18-P